FEDERAL HOUSING FINANCE BOARD

Sunshine Act Meeting Notice; Announcing a Closed Meeting of the Board of Directors

Time and Date: The meeting of the Board of Directors is scheduled to begin at approximately 11 a.m. on Wednesday, January 14, 2004. It will follow immediately the previously announced open meeting of the Board of Directors. See 69 FR 1289 (January 8, 2004).

Place: Board Room, Second Floor, Federal Housing Finance Board, 1777 F Street, NW., Washington, DC 20006.

Status: The entire meeting will be closed to the public.

Matters to be Considered: Periodic Update of Examination Program Development and Supervisory Findings.

FOR FURTHER INFORMATION CONTACT: Mary Gottlieb, Paralegal Specialist, Office of General Counsel, by telephone at (202) 408-2826 or by electronic mail at gottliebm@fhfb.gov.

Dated: January 8, 2004.
By the Federal Housing Finance Board.
Arnold Intrater,
General Counsel.

[FR Doc. 04-661 Filed 1-8-04; 11:36 am]

BILLING CODE 6725-01-P